ARCHITECTURAL AND TRANSPORTATION BARRIERS COMPLIANCE BOARD

[Docket No. ATBCB-2017-0002]

Proposed Submission of Information Collection for OMB Review; Comment Request; Generic Clearance for the Collection of Qualitative Feedback on Agency Service Delivery

AGENCY: Architectural and Transportation Barriers Compliance Board.

ACTION: 30-Day Notice and Request for Comments.

SUMMARY: In accordance with the Paperwork Reduction Act (PRA), the Architectural and Transportation Barriers Compliance Board (Access Board) invites comment on the proposed extension of its existing generic clearance for the collection of qualitative feedback on agency service delivery, which expires in January 2018. (OMB Control No. 3014-0011, Expiration: Jan. 31, 2018). This information collection was developed as part of a Federal Government-wide effort to streamline the process for seeking feedback from the public on service delivery. In August 2017, the Access Board published a 60-day notice soliciting public comment on the proposed renewal of our generic clearance of qualitative feedback. 82 FR 37421 (Aug. 10, 2017). No comments were received. This notice, as required by the PRA, provides an additional 30 days for public comment.

DATES: Submit comments by December 15, 2017.

ADDRESSES: You may submit comments by any of the following methods:

• Email: OIRA_submission@omb.eop.gov. Include the OMB control number (3014-011) in the subject line of the message. Please also send a copy to marshall@access-board.gov.

• Fax: 202-395-5806, Attn: OMB Desk Officer for the U.S. Access Board. Include the OMB control number (3014-0011) in the subject line of the cover page. Please also fax a copy to 202-272-0081, Attn: Wendy Marshall.

• Mail: Office of Information and Regulatory Affairs, Attention: OMB Desk Officer for the U.S. Access Board, Room 10235, 725 17th Street NW., Washington, DC 20503. Include in your correspondence the OMB control number (3014-0011). Please also send a copy to Wendy Marshall, Office of General Counsel, U.S. Access Board, 1331 F Street NW., Suite 1000, Washington, DC 20004-1111.

FOR FURTHER INFORMATION CONTACT: Wendy Marshall, Attorney Advisor, Office of General Counsel, U.S. Access Board, 1331 F Street NW., Suite 1000, Washington, DC 20004-1111. Phone: 202-272-0043 (voice). Email: marshall@access-board.gov.

SUPPLEMENTARY INFORMATION:

A. Background

Under the Paperwork Reduction Act of 1995 (44 U.S.C. 3501 et seq.) (PRA) and its implementing regulations (5 CFR part 1320), Federal agencies must obtain approval from OMB for each collection of information they conduct or sponsor (e.g., contractually-required information collection by a third-party). “Collection of information,” within the meaning of the PRA, includes agency requests that pose identical questions to, or impose reporting or recordkeeping obligations on, ten or more persons, regardless of whether response to such request is mandatory or voluntary. See 5 CFR 1320.3(c); see also 44 U.S.C. 3502(3). Before seeking clearance from OMB, agencies are generally required, among other things, to publish both 60-day and 30-day notices in the Federal Register to inform the public about proposed extensions of previously-approved information collection, and provide opportunities for comment. See 44 U.S.C. 3506(c)(2)(A); 5 CFR 1320.8(d)(1). In August 2017, the Access Board published a 60-day notice related to the proposed renewal of its generic clearance; no comments were received. The Access Board now publishes this notice to allow an additional 30 days for public comment.

B. Proposed Information Collection Request

With this notice, the Access Board provides notice of its intent to seek renewal of its existing generic clearance for the collection of qualitative feedback on agency service delivery. We anticipate seeking OMB approval for revisions to the type (and number) of information collection activities relative to our existing generic clearance that expires in January 2018. Specifically, the Access Board intends to seek an increase in the number of approved respondents (and burden hours) under the generic clearance, primarily because we expect to solicit feedback from customers across a broader spectrum of agency programs and services that relate to technical assistance, training, and other education and outreach initiatives. To date, we have found the feedback garnered through qualitative customer satisfaction surveys (and similar information collections) to be beneficial, by providing useful insights in experiences, perceptions, opinions, and expectations regarding Access Board services or focusing attention on areas in need of improvement. We thus intend to seek approval for expansion of our current efforts to solicit qualitative customer feedback by seeking input from customers across a broader array of agency programs and services. Online surveys will be used unless the customer contacts the agency by phone for technical assistance or an individual otherwise expresses a preference for another survey format (i.e., fillable form in portable document format or paper survey). In addition, paper surveys may be used to garner feedback from participants at in-person trainings or similar events.

OMB Control Number: 3014-0011.

Title: Generic Clearance for the Collection of Qualitative Feedback on Agency Service Delivery.

Type of Review: Extension with revisions.

Abstract: The proposed information collection activity facilitates collection of qualitative customer and stakeholder feedback in an efficient, timely manner, in accordance with the Federal Government's commitment to improving service delivery. By qualitative feedback we mean information collections that provide useful insights on perceptions and opinions, but are not statistical surveys that yield quantitative results that can be generalized to the population of study. This feedback will provide insight into customer or stakeholder perceptions, experiences and expectations, provide an early warning of issues with service, or focus attention on areas where communication, training, or changes in operations might improve delivery of services. These collections will allow for ongoing, collaborative, and actionable communications between the Access Board and its customers and stakeholders.

Feedback collected under this generic clearance provides useful information, but it does not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results from such quantitatively-inclined information collections are likely to have, such collections might still be eligible for submission under another type of other generic clearance.

Respondents/Affected Public: Individuals and Households; Businesses and Organizations; State, Local or Tribal Government.

Burden Estimates: In the table below (Table 1), the Access Board provides estimates for the annual reporting burden under this proposed information collection. (The Access Board does not anticipate incurring any capital or other direct costs associated with this information collection. Nor will there be any costs to respondents, other than their time.)

Table 1—Estimated Annual Burden Hours
Type of collection | Number of respondents | Frequency of response (per year) | Average response time (mins.) | Total burden (hours)
Customer feedback survey: Training/Webinar | 1,200 | 1 | 6 | 120
Customer feedback survey: Technical Assistance | 2,700 | 1 | 3 | 135
Customer feedback survey: Compliance & Enforcement | 40 | 1 | 4 | 3
Totals | 3,940 | n/a | n/a | 258
(Note: Total burden hours per collection rounded to the nearest full hour.)

Request for Comment: The Access Board seeks comment on any aspect of the proposed renewal of our existing generic clearance for the collection of qualitative feedback on agency service delivery, including (a) whether the proposed collection of information is necessary for the Access Board's performance; (b) the accuracy of the estimated burden; (c) ways for the Access Board to enhance the quality, utility, and clarity of the information collection; and (d) ways that the burden could be minimized without reducing the quality of the collected information.

David M. Capozzi,
Executive Director.

[FR Doc. 2017-24729 Filed 11-14-17; 8:45 am]

BILLING CODE 8150-01-P